DEPARTMENT OF HOUSING AND URBAN DEVELOPMENT

[Docket No. FR-5600-FA-21]

Announcement of Funding Awards; Service Coordinators in Multifamily Housing Program, Fiscal Year (FY) 2012

AGENCY: Office of the Assistant Secretary for Housing—Federal Housing Commissioner, HUD.

ACTION: Announcement of funding awards.

SUMMARY: In accordance with Section 102(a)(4)(C) of the Department of Housing and Urban Development Reform Act of 1989, this announcement notifies the public of funding decisions made by the Department in a competition for funding under the Fiscal Year (FY) 2010 Notice of Funding Availability (NOFA) for the Service Coordinators in Multifamily Housing Programs. This announcement contains the names of the awardees and the amounts of the awards made available by HUD.

FOR FURTHER INFORMATION CONTACT: Ms. Catherine M. Brennan, Director, Office of Housing Assistance and Grant Administration, Office of Housing, 451 Seventh Street SW., Room 6138, Washington, DC 20410; telephone number 202-708-3000. (This is not a toll-free number). Hearing- and speech-impaired persons may access this number via TTY by calling the Federal Relay Service toll-free at 1-800-877-8339. For general information on this and other HUD programs, visit the HUD Web site at http://www.hud.gov.

SUPPLEMENTARY INFORMATION: The Service Coordinators in Multifamily Housing Programs is authorized by Section 808 of the Cranston-Gonzalez National Affordable Housing Act (Pub. L. 101-625, approved November 28, 1990), as amended by Sections 671, 674, 676, and 677 of the Housing and Community Development Act of 1992 (Pub. L. 102-550, approved October 28, 1992), and Section 851 of the American Homeownership and Economic Opportunity Act of 2000 (Pub. L. 106-569, approved December 27, 2000). The Service Coordinators in Multifamily Housing Programs allows multifamily housing owners to assist elderly individuals and nonelderly people with disabilities living in HUD-assisted housing and in the surrounding area to obtain needed supportive services from the community, to enable them to continue living as independently as possible in their homes.

The FY 2012 awards announced in this notice identify applicants that were selected for funding based on a competition announced by a NOFA published on www.Grants.gov on March 13, 2012. Applications were reviewed and selected for funding on the basis of selection criteria contained in that NOFA. The funding awarded to the recipients under this NOFA was appropriated by The Consolidated and Further Continuing Appropriation Act of 2012 (Pub. L. 112-55, November 18, 2011). The Catalog of Federal Domestic Assistance number for this program is 14.191.

A total of $31,908,107 was awarded to 140 owners, serving 144 projects with 14,673 units nationwide. In accordance with Section 102(a)(4)(C) of the Department of Housing and Urban Development Reform Act of 1989 (103 Stat. 1987. 42 U.S.C. 3545), the Department is publishing the grantees and amounts of the awards in Appendix A of this document.

Dated: May 29, 2013.
Laura M. Marin,
Acting General Deputy Assistant Secretary for Housing—Federal Housing Commissioner.

Appendix A

State | Recipient name | Project name | Address | City | Number of units | Grant amount
AL | Vaughn Tower LLC | Vaughn Towers | 342 S. Saint Andrews St | Dothan | 120 | $192,843
AR | Buffington II, L.P | Buffington Tower | 224 E 7Th St | Little Rock | 109 | 217,813
CA | Pacific Park Executive Plaza LP | Ceres Christian Terrace | 1859 Richard Way | Ceres | 67 | 251,233
CA | Cloverdale Senior Housing, Inc | Kings Valley Apts | 100 Kings Circle | Cloverdale | 99 | 239,585
CA | Clara Park Village Apartments Limited Partnership | Clara Park Village | 4805 Clara St | Cudahy | 50 | 108,429
CA | Gardena South Park Senior Project, Inc | Gardena South Park Sr. Citizens | 17100 S Park Ln | Gardena | 126 | 262,935
CA | Our Saviour's Lutheran Development Corp | Lutheran Towers | 2340 4Th St | Long Beach | 93 | 297,550
CA | Maywood Manor Senior Housing, Inc | Maywood Manor Coop | 4646 Slauson Ave | Maywood | 55 | 144,505
CA | North Hollywood Sr. Citizens Towers | North Hollywood Sr. Citizens | 11035 Magnolia Blvd | North Hollywood | 200 | 524,799
CA | Crescent Manor Partners, LP | Crescent Manor | 467 Turk St | San Francisco | 94 | 356,754
CA | The Lesley Foundation | Park Towers | 700 Laurel Ave | San Mateo | 200 | 237,219
CA | Camino Mercado Partners, LP | Fickett Towers | 14801 Sherman Way | Van Nuys | 198 | 489,740
CO | Downtown Denver Housing Partners LLLP | Argonaut Apts | 1505 Grant St | Denver | 109 | 626,600
CO | Colorado Affordable Senior Housing, LLC | Independence Village | 225 N Coulson | Fruita | 75 | 216,553
CO | St. Mary's Housing Committee, Inc | Immaculata Plaza | 530 10Th Avenue | Greeley | 25 | 103,572
CT | Bridgeport Towers, LLC | Bridgeport Towers | 199 Yacht St | Bridgeport | 252 | 184,835
CT | Grant Street Senior Apartments, LLC | Grant Street Senior Apartments | 430 Grant Street | Bridgeport | 92 | 151,919
CT | Stratfield Apartments LLC | Stratfield Apartments I & II | 1241 Main St | Bridgeport | 91 | 568,732
CT | Chase Manor Associates | Chase Manor | 55-75 Norman Road | Norwich | 50 | 245,565
CT | Southern Development Management Company | Eastgate II | 84 Maybury Cir | Waterbury | 44 | 291,078
DC | Second New St. Paul Housing Inc | The Green Valley Apts | 2412 Franklin St Ne | Washington | 100 | 124,177
FL | Mar Plaza Apartments LLC | Mar Plaza Apartments | 4817 E Temple Heights Rd | Tampa | 82 | 203,964
FL | Mary Walker, LLC | Mary Walker Apartments | 4912 E Linebaugh Ave | Tampa | 85 | 221,411
GA | Friendship Tower, Inc | Friendship Towers | 35 Northside Dr SW | Atlanta | 102 | 210,251
GA | Hellenic Tower LLC | The Hellenic Tower | 8450 Roswell Rd NW | Atlanta | 125 | 195,970
GA | Christian City Estates, Inc | Cc Estates/Miller Manor | 7601 Lester Rd | Union City | 76 | 263,037
GA | Christian City Retirement Homes, Inc | Cc/Garden Terrace | 7505 Lester Rd | Union City | 20 | 348,191
GA | John Sparks Manor, Inc | Cc/Sparks Manor | 7290 Lester Rd | Union City | 85 | 166,721
ID | Northwest Mill Creek LLC | Millcreek Apartments | 419 Miller St | Lewiston | 40 | 160,461
IL | Whiting Hall Partners, LP | Whiting Hall (Ihda) | 19 E Tompkins St | Galesburg | 60 | 215,599
IL | Inwood Park Tower, LLC | The Tower | 247 Caterpillar Dr | Joliet | 134 | 215,592
IL | Cedar Village Limited Partnership/Daniel Plotnick | Cedar Village | 310 N. Milwaukee Avenue | Lake Villa | 80 | 267,611
IL | Terrace Senior Apartments | The Terrace | 2321 Halsted Rd | Rockford | 128 | 204,908
IN | Cambridge Square Of Greenwood | Cambridge Square Greenwood | 1160 Southbridge Dr | Greenwood | 186 | 269,991
IN | Burnett Manor Apartments LP | Burnett Manor | 315 Stark St | Rockville | 60 | 124,431
IN | Retired Tigers Senior Apts, LLC | Retired Tigers Senior Apartments | 320 W Main St | Warsaw | 82 | 211,197
KS | A.S.C. Development Company Dba Windsor Court | Windsor Court | 305 E Windsor Rd | Arkansas City | 79 | 176,836
KS | Stitzel-Allen Partnership Dba Poplar Court | Poplar Court | 519 E Poplar St | Olathe | 67 | 158,008
KS | Shadybrook Senior Apartments, LLC | Shadybrook Estates | 4925 Shadybrook St | Wichita | 78 | 209,485
KY | Hathaway Court LLC | Hathaway Court Apartments | 1200 Highway Ave | Covington | 159 | 262,449
KY | Ballard Place, LLC | Ballard Place Apartments | 635 Ballard St | Lexington | 132 | 230,417
KY | West Louisville Housing, Inc | Community Towers | 2526 W Madison St | Louisville | 61 | 249,723
KY | Housing Now—Flaget, Inc | Flaget Apts | 4410 River Park Dr | Louisville | 73 | 249,723
KY | Yorktown Senior House, Inc | Yorktown Senior Housing | 7200 National Tpke | Louisville | 50 | 119,134
KY | Schiff Holdings, LLC | Mayfield Plaza Apartments | 405 Babb Drive | Mayfield | 92 | 208,395
KY | Sisson Manor, A Limited Partnership | Sisson Manor Apts | 2900 Dixiana Ct | Owensboro | 48 | 251,346
LA | Sharlo Ii Terrace Apartments, LP | Sharlo Terrace Ii | 1808 Brightside Dr | Baton Rouge | 90 | 237,090
MA | Quincy Tower Associates | Quincy Tower | 5 Oak St W | Boston | 162 | 311,434
MA | Hrca Brookline Housing,112-120 Centre Court, Inc | Centre Court 120 | 120 Centre Ct | Brookline | 125 | 190,311
MA | Revere Elderly Housing Inc | Friendly Garden Coop Apts | 235 Revere St | Revere | 107 | 104,606
MA | Taunton Green Associates | Taunton Green | 31 School St | Taunton | 75 | 237,008
MA | Worcester Episcopal Housing Company | Canterbury Tower | 6 Wachusett St | Worcester | 156 | 249,580
MI | Fountainhead Investments, LLC | Caro Senior Commons | 1601 W. Gilford Rd | Caro | 100 | 238,003
MI | Medical Center Senior L.D.H.A | Medical Center Senior Village | 4701 Chrysler Dr | Detroit | 190 | 175,169
MI | Metropolitan Baptist Church Nphc/Dba Alaine Locke Manor | Morton Manor | 20000 Dequindre St | Detroit | 151 | 176,629
MI | Fc Plymouth Square Village, LLC | Plymouth Square Village Apts | 20201 Plymouth Rd | Detroit | 280 | 254,014
MI | Village Center Associates LDHA | Village Center | 901 Pallister St | Detroit | 254 | 251,014
MI | Masso Limited Dividend Housing Association, LLC | East Glen Apartments | 1801 N Hagadorn | East Lansing | 100 | 225,351
MI | Royal Oak Tower/Mht LDHA | Royal Oak Towers | 20800 Wyoming St | Ferndale | 200 | 214,903
MI | Jackson Apartments LLC | Elaine Apartments | 101 E Michigan Ave | Jackson | 33 | 136,022
MI | New Baltimore Senior Preservation LP | New Baltimore Place | 51140 Hooker St | New Baltimore | 101 | 267,567
MI | Romulus Non-Profit Housing Corporation | Whispering Willows | 11100 Wayne Rd | Romulus | 65 | 159,643
MI | Royal Oak (Csi) Non-Profit Housing Corporation | Royal Oak Cooperative Apartments | 606 Williams | Royal Oak | 240 | 399,226
MI | Sault Reality LLC | Bridge Village | 591 Myrtle | Sault Sainte Marie | 100 | 119,835
MI | Southgate Non-Profit Apartments, Inc | Southgate Cooperative Apartments | 11255 Allen Rd | Southgate | 227 | 517,742
MI | Bishop CSI Non-Profit Corporation | Bishop Cooperative Apartments | 2651 Biddle Ave | Wyandotte | 196 | 264,461
MN | Northfield Manor | Northfield Manor | 901 Cannon Valley Drive | Northfield | 64 | 146,114
MO | Booth Manor, Inc | Booth Manor | 6111 E 129Th St | Grandview | 80 | 165,608
MO | Lawndale Heights, LP | Lawndale Heights Apts | 1400 Topping Ave | Kansas City | 123 | 225,635
MS | Ucr Of Clarksdale, Ms, Inc | Meadowview Village Apts | 501 Washington Avenue | Clarksdale | 40 | 119,906
MS | Episcopal Hsg Dev (Dba/All Saints House) | All Saints House | 480 S Main St | Grenada | 41 | 134,322
MS | United Church Residences Of Hollysprings, Ms Inc | Hollyview Place | 731 Highway 78 W | Holly Springs | 21 | 105,309
MS | Jackson Manor Apartments, Inc | Jackson Manor Apartments | 332 Josanna St | Jackson | 60 | 235,919
MS | Lucky Star Housing Associates LP | Madonna Manor | 550 Houston Avenue | Jackson | 149 | 152,046
MS | Deville Manor Apartments, Ltd | Deville Manor Apartments | 1914 11Th St | Meridian | 103 | 212,559
MS | Magnolia Manor Apartments, Ltd | Magnolia Manor Apts | 3515 Manor Dr | Vicksburg | 80 | 214,495
MS | H.A. Scott Riverside Apartments, Inc | H A Scott Riverside Apts | 725-A River Rd | Yazoo City | 30 | 138,854
NC | Burlington Housing Authority | Burlington Homes | 507 Everett St | Burlington | 100 | 184,130
ND | Peaceful Pioneer Partners, LP | Pioneer Haven | 1043 Enterprise Ave | Dickinson | 24 | 201,085
NJ | Best Of Life Park | Best Of Life Park | 129 143 S Virginia Ave | Atlantic City | 208 | 186,976
NJ | St. Mary's Villa Associates | St Mary's Villa | 425 Sanford Ave | Newark | 360 | 222,013
NM | Yes Deming Mountain View Apartments Limited Partnership LLLP | Mountain View Estates Apts | 1101 South Shelly Drive | Deming | 48 | 233,141
NM | Wildewood Apartments Limited Partnership | Wildewood Apartments | 201 Sherrill Ln | Roswell | 60 | 233,791
NY | East One Thirty Eighth Hdfc, Inc | Borinquen Court Site 603 | 285 E 138 St | Bronx | 145 | 271,669
NY | Kenton Presbyterian Village, Inc | Ken-Ton Presbyterian | 3735 Delaware Ave | Buffalo | 151 | 141,951
NY | Lakeview Arms Senior Housing, LP | Lakeview Arms Sr. Citz. Apartments | 2 Creek Rd | Poughkeepsie | 72 | 264,185
NY | Municipal Housing Authority Of The City Of Utica | Chancellor Apts | 417 Bleecker St | Utica | 93 | 197,208
OH | National Church Residences Of Baltimore, Oh | Walnut Creek Village | 1051 S Main St | Baltimore | 41 | 104,621
OH | Pwa Emeritus, LLC | Emeritus House | 4450 Cedar Ave | Cleveland | 56 | 118,256
OH | New Clifton Plaza Associates, LLC | The New Clifton Plaza | 11430 Clifton Blvd | Cleveland | 108 | 210,814
OH | Conneaut Apartments | Conneaut Apartments | 232 Harbor St | Conneaut | 53 | 161,314
OH | Biltmore Apartments, Ltd | Biltmore Towers, The | 210 N Main St | Dayton | 230 | 448,421
OH | Mad Investors LLC | Mad River Manor | 5580 Burkhardt Rd | Dayton | 74 | 262,226
OH | Harding Investors LLC | Harding House | 425 Mission Ln | Franklin | 60 | 262,229
OH | Shaker Place VOA Affordable Housing, LP | Shaker Place Apartments | 3600 Northfield Rd | Highland Hills | 81 | 214,477
OH | Marion Rotary Towers Ltd | Marion Towers | 400 Delaware Avenue | Marion | 153 | 214,477
OH | Trinity Manor Senior Housing Limited Partnership | Trinity Manor Senior Housing Limited Partnership | 301 Clark St | Middletown | 91 | 126,978
OH | New Pleasant View, Ltd | New Pleasant View, Ltd | 114 Academy St | Pleasantville | 30 | 76,556
OH | Viewpoint Senior Housing Limited Partnership | Viewpoint | 215 E Shoreline Dr | Sandusky | 147 | 207,245
OK | Kingfisher VOA Elderly Housing, Inc | Autumn Trace | 2301 Mitchell Dr | Kingfisher | 31 | 124,867
OR | Northwest Riverside Manor I LLC | Riverside Manor I | 1575 Hawthorne Ave | Reedsport | 16 | 166,793
PA | Bloomsburg Towers LLC | Bloomsburg Elderly Housing | 330 W Third St | Bloomsburg | 76 | 215,755
PA | Pennsylvania Associates LP | Norristown Elderly Housing | 300 Walnut St | Norristown | 175 | 238,832
PA | Opportunities For The Aging Housing Corp | Opportunities For Aging | 1717 W Hunting Park Ave | Philadelphia | 151 | 183,787
PA | University Plaza Associates | University Square Plaza | 3901 Market St | Philadelphia | 442 | 505,980
PA | Geneva House, Inc | Geneva House | 323 Adams Ave | Scranton | 64 | 226,298
PA | Shamokin Housing Association | Lincoln Towers | 201 W Mulberry St | Shamokin | 100 | 225,247
PA | Vincent Heights Senior Housing, LLC | Vincent Heights | 333 Vincent Heights Cir | Spring City | 90 | 226,032
SC | Episcopal Housing Corp | Finlay House | 2100 Blossom St | Columbia | 204 | 691,036
SD | Tower Of David Senior Housing Limited Partnership | Tower Of David Apartments | 320 S 3Rd Ave | Sioux Falls | 80 | 203,254
TN | Cleveland Senior Housing Corporation | Cleveland Summit | 44 Inman St Se | Cleveland | 78 | 204,150
TN | Horizon House I, Inc | Horizon House I | 1903 Piney Grove Church Rd | Knoxville | 9 | 80,055
TN | Independent Apartments, Inc | Independent Apartments | 875 Linden | Memphis | 24 | 91,936
TN | United Housing Partners-Wesley Camilla, A Tennessee General Partnership | Linden Camilla Towers | 256 South Camilla Street | Memphis | 430 | 721,064
TN | First Baptist Church Capitol Hi Ll Homes, Inc | Kelly Miller Smith Towers | 2136 Cliff Dr | Nashville | 108 | 269,615
TX | Rural Economic Assistance League, Inc | Casa Real | 1300 Wyoming St | Alice | 68 | 235,264
TX | Independence Amarillo Senior Housing, LP | Independence Village | 4700 S Virginia St | Amarillo | 150 | 223,962
TX | Nueces County Housing Assistance, Inc | Palacio Residencial & El Paraiso Apts | 1757 Gollihar | Corpus Christi | 95 | 323,533
TX | Sea Gulf Villa Ltd Partnership | Sea Gulf Villa | 416 N Chaparral St | Corpus Christi | 111 | 254,446
TX | Housing Authority Of The City Of El Paso | Henderson Heights | 9401 Stonewall | El Paso | 144 | 271,873
TX | Fort Worth VOA Elderly Housing, Inc | Park Meadows Apts | 2716 Yeager St | Fort Worth | 80 | 120,460
TX | Manor Crest Senior Apartments, LP | Manor Crest Apartments | 1401 San Andres Dr | Odessa | 106 | 219,949
TX | Pam Affordable Senior Housing, LLC | Pam Apartments | 1200 N Wells St | Pampa | 96 | 218,488
TX | Hereford Apartments | Lasker O. Hereford Apts | 8911 Timberwilde St | San Antonio | 40 | 145,021
TX | Villa O'Keefe Apartments | Villa O'Keefe Apts | 2130 SW White Rd | San Antonio | 50 | 246,302
VA | Holiday Village Apartments, LLC | Holiday Village | 222 Courtland St | Danville | 133 | 226,579
WA | Chewelah Manor Village | Chewelah Manor | 501 East Main & Fifth Street | Chewelah | 25 | 89,278
WA | Stevens County Housing Coalition | Columbia Apartments | 506 S Oak St | Colville | 12 | 37,024
WA | Lakewood Group Homes Inc | Tahoma House | 4202 S 64Th St | Lakewood | 6 | 44,797
WA | Sno-Ridge Apartments LLC | Sno Ridge Apartments | 401 Stow Avenue South | North Bend | 40 | 169,170
WA | Canal View Association | Golden Sunset Apartments | 3256 NW 54Th St | Seattle | 92 | 288,529
WA | Loyal Heights Manor | Loyal Heights Manor | 7547 24Th Ave NW | Seattle | 54 | 288,529
WA | Weller Association | Weller Apartments | 1632 S Weller Street | Seattle | 50 | 288,529
WA | Pines Affordable Housing, LLC | Pines Terra/Pines Manor Apartments | 528 North Pines | Spokane Valley | 102 | 222,389
WA | Ponderosa Affordable Senior Housing, LP | Ponderosa Apartments | 9314 E Montgomery Ave | Spokane Valley | 129 | 225,768
WA | Kincaid Housing | Kincaid Court Apartments | 6210 Parker Road East | Sumner | 40 | 199,965
WA | Blue Mountain Action Council | Whitman Court | 305 Ash St | Walla Walla | 49 | 158,616
WI | 3311 W. College, LLC | The Woods Of Cedar Village | 3311 W College Ave | Franklin | 112 | 267,611
WV | Highlawn Senior Apartments, LP | Highlawn Place | 1130 3Rd Ave | Huntington | 133 | 197,819
WV | Pleasantview Towers, Limited | Pleasantview Towers | 1205 9Th St | Vienna | 117 | 214,080

[FR Doc. 2013-14338 Filed 6-14-13; 8:45 am]

BILLING CODE 4210-67-P